DEPARTMENT OF THE INTERIOR

Bureau of Land Management

[NM-923-1430-ET; NMNM 52374, NMNM 52382, NMNM 63992, and NMNMAA 25089]

Public Land Order No. 7615; Partial Revocation of Secretarial Orders Dated September 24, 1903, July 17, 1908, June 3, 1926, and August 27, 1936; New Mexico

AGENCY: Bureau of Land Management, Interior.

ACTION: Public land order.

SUMMARY: This order revokes four Secretarial Orders insofar as they affect 18.02 acres of lands withdrawn for the Bureau of Reclamation's Rio Grande Project. This order makes the lands available for conveyance in accordance with Public Law 107-335.

EFFECTIVE DATE: September 23, 2004.

FOR FURTHER INFORMATION CONTACT: Jeanette Espinosa, BLM New Mexico State Office, P.O. Box 27115, Santa Fe, New Mexico 87502, 505-438-7597.

SUPPLEMENTARY INFORMATION: Public Law 107-335 directs the Secretary of the Interior to convey 18.02 acres of Rio Grande Project lands to the Elephant Butte/Caballo Leaseholders Association, Inc.

Order

By virtue of the authority vested in the Secretary of the Interior by section 204 of the Federal Land Policy and Management Act of 1976, 43 U.S.C. 1714 (2000), it is ordered as follows:

1. The Secretarial Order dated September 24, 1903, is hereby revoked insofar as it affects the following described lands withdrawn for the Bureau of Reclamation's Rio Grande Project:

NMNM 52374

New Mexico Principal Meridian

T. 11 S., R. 3 W.,

Tract 1, located in sec. 18, more particularly described as follows:

Using New Mexico State Plane Grid bearings, and ground distances; Beginning at the Northwest corner of sec. 18, T. 11 S., R. 3 W., thence S 51°56′24″ E, a distance of 5757.15 feet to the point of beginning; thence, N 79°22′16″ E, a distance of 131.13 feet; thence N 00°14′06″ W, a distance of 206.07 feet; thence N 08°14′58″ E, a distance of 124.73 feet; thence along a curve having a radius of 225.91 feet, arc length of 95.53 feet, delta angle of 24°13′44″, a chord bearing of N 03°51′54″ W, and a chord length of 94.82 feet; thence N 67°16′00″ E, a distance of 156.95 feet; thence S 69°02′01″ E, a distance of 110.05 feet; thence S 22°58′00″ W, a distance of 98.05 feet; thence S 20°30′13″ W, a distance of 74.04 feet; thence S 05°52′42″ E, a distance of 66.89 feet; thence S 28°54′56″ E, a distance of 52.85 feet; thence S 64°25′45″ E, a distance of 153.40 feet; thence S 39°57′34″ W, a distance of 101.24 feet; thence S 45°09′34″ W, a distance of 28.56 feet; thence S 00°48′51″ W, a distance of 85.35 feet; thence N 89°50′30″ W, a distance of 124.93 feet; thence N 89°38′32″ W, a distance of 100.22 feet; thence S 03°29′18″ W, a distance of 48.95 feet; thence S 15°14′33″ E, a distance of 100.82 feet; thence S 78°11′30″ W, a distance of 154.84 feet; thence N 24°49′09″ W, a distance of 106.56 feet; thence N 24°49′09″ W, a distance of 63.36 feet; thence N 13°03′17″ E, a distance of 76.76 feet to the point of beginning.

Tract 2, located in sec. 8, more particularly described as follows:

Using New Mexico State Plane Grid bearings, and ground distances; Beginning at the Southwest corner of sec. 7, T. 11 S., R. 3 W., thence N 87°36′19″ E, a distance of 5556.06 feet to the point of beginning; thence, N 14°12′20″ E, a distance of 187.70 feet; thence S 75°36′07″ E, a distance of 119.86 feet; thence S 14°17′53″ W, a distance of 180.84 feet; thence N 78°52′58″ W, a distance of 119.74 feet to the point of beginning.

Tract 3, located in sec. 8, more particularly described as follows:

Using New Mexico State Plane Grid bearings, and ground distances; Beginning at the Northwest corner of sec. 18, T. 11 S., R. 3 W., thence N 80°11′08″ E, a distance of 5409.95 feet to the point of beginning; thence N 86°24′40″ E, a distance of 200.37 feet; thence S 02°30′20″ E, a distance of 100.13 feet; thence S 86°30′27″ W, a distance of 199.19 feet; thence N 03°10′47″ W, a distance of 99.77 feet to the point of beginning.

The areas described aggregate 4.92 acres in Sierra County.

2. The Secretarial Order dated July 17, 1908, is hereby revoked insofar as it affects the following described land withdrawn for the Bureau of Reclamation's Rio Grande Project:

NMNM 52382

New Mexico Principal Meridian

T. 12 S., R. 3 W.,

Tract 4, located in sec. 7, more particularly described as follows:

Using New Mexico State Plane Grid bearings, and ground distances; Beginning at the Northwest Corner of sec. 18, T. 12 S., R. 3 W., (a USGLOS brass cap set for the closing corner of secs. 13 and 18), thence N 34°22′45″ E, a distance of 5,454.60 feet to the point of beginning; thence N 03°38′31″ W, a distance of 99.80 feet; thence N 05°42′08″ W, a distance of 98.58 feet; thence N 78°57′14″ W, a distance of 22.56 feet; thence N 01°47′21″ E, a distance of 165.73 feet; thence N 85°09′40″ E, a distance of 99.53 feet; thence N 85°27′34″ E, a distance of 99.94 feet; thence N 83°59′20″ E, a distance of 100.48 feet; thence S 05°06′28″ E, a distance of 101.41 feet; thence N 85°33′29″ E, a distance of 199.83 feet; thence S 04°26′17″ E, a distance of 100.06 feet; thence S 04°26′17″ E, a distance of 24.77 feet; thence N 86°50′20″ E, a distance of 126.22 feet; thence S 03°09′40″ E, a distance of 60.02 feet; thence S 00°45′33″ E, a distance of 100.03 feet; thence S 00°45′33″ E, a distance of 100.02 feet; thence S 86°48′13″ W, a distance of 212.86 feet; thence N 02°30′10″ W, a distance of 105.56 feet; thence S 86°23′42″ W, a distance of 198.31 feet; thence S 86°23′42″ W, a distance of 200.85 feet to point of beginning.

The area described contains 4.81 acres in Sierra County.

3. The Secretarial Order dated June 3, 1926, is hereby revoked insofar as it affects the following described land withdrawn for the Bureau of Reclamation's Rio Grande Project:

NMNM 63992

New Mexico Principal Meridian

T. 16 S., R. 5 W.,

Tract 5, located in sec. 24, more particularly described as follows:

Using New Mexico State Plane Grid bearings, and ground distances; Beginning at the quarter corner between secs. 23 and 24, T. 16 S., R. 5 W., thence N 71°20′57″ E, a distance of 2697.02 feet to the point of beginning; thence, N 00°28′36″ E, a distance of 172.43 feet; thence, N 78°53′32″ E, a distance of 220.75 feet; thence S 00°45′21″ W, a distance of 75.89 feet; thence S 85°17′11″ E, a distance of 49.17 feet; thence S 88°51′45″ E, a distance of 50.27 feet; thence S 88°52′51 E, a distance of 49.70 feet; thence N 88°55′33″ E, a distance of 49.41 feet; thence S 87°20′38″ E, a distance of 50.51 feet; thence S 87°36′35″ E, a distance of 48.75 feet; thence S 88°18′59″ E, a distance of 50.25 feet; thence S 88°42′44″ E, a distance of 49.82 feet; thence S 87°48′05″ E, a distance of 49.28 feet; thence S 88°13′50″ E, a distance of 49.49 feet; thence N 86°40′31″ E, a distance of 49.85 feet; thence S 86°22′45″ E, a distance of 50.30 feet; thence S 86°02′27″ E, a distance of 49.75 feet; thence S 89°09′02″ E, a distance of 50.15 feet; thence S 89°55′47″ E, a distance of 104.76 feet; thence S 71°31′17″ E, a distance of 89.94 feet; thence S 84°43′25″ E, a distance of 198.45 feet; thence S 00°11′21″ W, a distance of 493.80 feet; thence N 57°54′43″ W, a distance of 340.67 feet; thence N 74°32′50″ W, a distance of 359.80 feet; thence S 78°41′53″ W, a distance of 76.67 feet; thence N 12°24′45″ W, a distance of 75.58 feet; thence along a curve having a radius of 90.02 feet, arc length of 118.54 feet, delta angle of 75°26′53″ , a chord bearing of N 50°08′12″ W, and a chord length of 110.16 feet; thence N 88°12′02″ W, a distance of 487.92 feet to the point of beginning.

The area described contains 8.07 acres, in Sierra County.

4. The Secretarial Order dated August 27, 1936, is hereby revoked insofar as it affects the following described land withdrawn for the Bureau of Reclamation's Rio Grande Project:

NMNMAA 25089

New Mexico Principal Meridian

T. 16 S., R. 5 W.,

Tract 6, located in sec. 24, more particularly described as follows:

Using New Mexico State Plane Grid bearings, and ground distances; Beginning at the quarter corner between secs. 23 and 24, T. 16 S., R. 5 W., thence N 70°40′44″ E, a distance of 2615.17 feet to the point and place of beginning; thence N 03°38′12″ E, a distance of 50.00 feet; thence N 35°36′12″ E, a distance of 147.31 feet; thence S 00°28′36″ W, a distance of 172.43 feet; thence N 88°12′02″ W, a distance of 87.54 feet to the point of beginning.

The area described contains 0.22 acres, in Sierra County.

5. The lands described in Paragraphs 1, 2, 3, and 4 are hereby made available for conveyance in accordance with Public Law 107-335.

Dated: September 10, 2004.
Rebecca W. Watson,
Assistant Secretary—Land and Minerals Management.

[FR Doc. 04-21360 Filed 9-22-04; 8:45 am]

BILLING CODE 4310-FB-P